DEPARTMENT OF COMMERCE

National Oceanic and Atmospheric Administration

50 CFR Part 622

[I.D. 090905A]

RIN 0648-AS66

Fisheries of the Caribbean, Gulf of Mexico, and South Atlantic; Gulf of Mexico Essential Fish Habitat Amendment

AGENCY: National Marine Fisheries Service (NMFS), National Oceanic and Atmospheric Administration (NOAA), Commerce.

ACTION: Availability of fishery management plan amendment; request for comments.

SUMMARY: NMFS announces the availability of Generic Amendment 3 to the Fishery Management Plans (FMP) of the Gulf of Mexico (EFH Amendment 3) prepared by the Gulf of Mexico Fishery Management Council (Council). EFH Amendment 3 would amend each of the seven Council FMPs -coral and coral reef resources, coastal migratory pelagics, red drum, reef fish, shrimp, spiny lobster, and stone crab- to describe and identify essential fish habitat (EFH); minimize to the extent practicable the adverse effects of fishing on EFH; and encourage conservation and management of EFH. This amendment would establish additional habitat areas of particular concern (HAPC), restrict fishing activities within HAPCs to protect EFH, and require a weak link in bottom trawl gear to protect EFH. The intended effect of EFH Amendment 3 is to facilitate long-term protection of EFH, and, thus, better conserve and manage fishery resources in the Gulf of Mexico.

DATES: Written comments must be received no later than 5 p.m., eastern time, on November 14, 2005.

ADDRESSES: You may submit comments by any of the following methods:

• E-mail: 0648-AS66.NOA@noaa.gov. Include in the subject line the following document identifier: 0648-AS66-NOA.

• Federal e-Rulemaking Portal: http://www.regulations.gov. Follow the instructions for submitting comments.

• Mail: Peter Hood, Southeast Regional Office, NMFS, 263 13th Avenue South, St. Petersburg, FL 33701.

• Fax: 727-824-5308, Attention: Peter Hood.

Copies of the Environmental Impact Statement (EIS) and EFH Amendment 3, which includes a Regulatory Impact Review (RIR) and Initial Regulatory Flexibility Analyses (IRFA), may be obtained from the Gulf of Mexico Fishery Management Council, 2203 N. Lois Avenue, Suite 1100, Tampa, FL 33607; telephone: 813-348-1630; fax: 813-348-1711; e-mail: gulfcouncil@gulfcouncil.org.

FOR FURTHER INFORMATION CONTACT: Peter Hood, 727-824-5305; fax 727-824-5308; e-mail: peter.hood@noaa.gov.

SUPPLEMENTARY INFORMATION: EFH Amendment 3 addresses fisheries under the FMPs for coral and coral reef resources, coastal migratory pelagics, red drum, reef fish, shrimp, spiny lobster, and stone crab. The FMPs were prepared by the Council, except for the FMPs for coastal migratory pelagics and spiny lobster, which were prepared jointly by the South Atlantic and Gulf of Mexico Fishery Management Councils. All of these FMPs, except the spiny lobster and stone crab FMPs, are implemented under the authority of the Magnuson-Stevens Fishery Conservation and Management Act (Magnuson-Stevens Act) by regulations at 50 CFR part 622. The FMP for the Spiny Lobster Fishery of the Gulf of Mexico and South Atlantic is implemented by regulations at 50 CFR part 640. The FMP for the Stone Crab Fishery of the Gulf of Mexico is implemented by regulations at 50 CFR part 654.

EFH Amendment 3 would define EFH for each FMP and identify the following HAPCs: the Florida Middle Grounds, Madison-Swanson Marine Reserve, Tortugas North and South Ecological Reserves, Pulley Ridge, and the individual reefs and banks of the Northwestern Gulf of Mexico (East and West Flower Garden Banks, Stetson Bank, Sonnier Bank, MacNeil Bank, 29 Fathom, Rankin Bright Bank, Geyer Bank, McGrail Bank, Bouma Bank, Rezak Sidner Bank, Alderice Bank, and Jakkula Bank). The amendment also contains proposed alternatives to establish the following fishing restrictions in the Gulf of Mexico: (1) Prohibit bottom anchoring over coral reefs in the East and West Flower Garden Banks, McGrail Bank, Pulley Ridge, and North and South Tortugas Ecological Reserves HAPCs, and on the significant coral resources on Stetson Bank; (2) prohibit the use of trawling gear, bottom longlines, buoy gear, and all traps/pots on coral reefs in the East and West Flower Garden Banks, McGrail Bank, Pulley Ridge, and North and South Tortugas Ecological Reserves HAPCs, and on the significant coral communities on Stetson Bank; and (3) require a weak link in the tickler chain of bottom trawls on all habitats throughout the Gulf of Mexico exclusive economic zone. A weak link is defined as a length or section of the tickler chain that has a breaking strength less than the chain itself and is easily seen as such when visually inspected.

A proposed rule that would implement the measure outlined in EFH Amendment 3 has been received from the Council. In accordance with the Magnuson-Stevens Act, NMFS is evaluating the proposed rule to determine whether it is consistent with the FMP, the Magnuson-Stevens Act, and other applicable law. If that determination is affirmative, NMFS will publish the proposed rule in the Federal Register for public review and comment.

Comments received by November 14, 2005, whether specifically directed to the FMP or the proposed rule, will be considered by NMFS in its decision to approve, disapprove, or partially approve the amendment. Comments received after that date will not be considered by NMFS in this decision. All comments received by NMFS on the amendment or the proposed rule during their respective comment periods will be addressed in the final rule.

Authority: 16 U.S.C. 1801 et seq.

Dated: September 9, 2005.
Alan D. Risenhoover,
Acting Director, Office of Sustainable Fisheries, National Marine Fisheries Service.

[FR Doc. 05-18357 Filed 9-14-05; 8:45 am]

BILLING CODE 3510-22-S